SMALL BUSINESS ADMINISTRATION

[Declaration of Disaster #3232, Amdt. 2]

State of Kentucky

In accordance with a notice received from the Federal Emergency Management Agency dated January 24, 2000, the above-numbered Declaration is hereby amended to include Hancock and Henderson Counties in the State of Kentucky as a disaster area due to damages caused by tornadoes, severe storms, torrential rains, and flash flooding that occurred on January 3-4, 2000.

In addition, applications for economic injury loans from small businesses located in the contiguous County of Breckinridge, Kentucky, and Perry, Posey, and Vanderburgh Counties in Indiana may be filed until the specified date at the previously designated location. Any counties contiguous to the above-named primary counties and not listed herein have been previously declared.

All other information remains the same, i.e., the deadline for filing applications for physical damage is March 10, 2000 and for economic injury the deadline is October 10, 2000.

(Catalog of Federal Domestic Assistance Program Nos. 59002 and 59008)
Dated: February 2, 2000.
Bernard Kulik,
Associate Administrator for Disaster Assistance.

[FR Doc. 00-3075 Filed 2-9-00; 8:45 am]

BILLING CODE 8025-01-P